SOCIAL SECURITY ADMINISTRATION

Statement of Organization, Functions and Delegations of Authority

This statement amends part S of the Statement of the Organization, Functions and Delegations of Authority which covers the Social Security Administration (SSA). Chapter S7 covers the Office of the Deputy Commissioner for Human Resources. Notice is hereby given that subchapter S7C, the Office of Labor-Management and Employee Relations is being amended to reflect the establishment of three centers. The new material and changes are as follows:

Section S7C.10 The Office of Labor Management and Employee Relations—(Organization):

Delete B.

Retitle:

A. The “Director, Office of Labor-Management and Employee Relations” to the “Associate Commissioner, Office of Labor-Management and Employee Relations (S7C).

Reletter C to B:

B. The Immediate Office of the Associate Commissioner, Office of Labor-Management and Employee Relations (S7C).

Establish:

C. The Center for Program Policy, Automation and Training (S7CC ).

D. The Center for Operations (S7CE).

E. The Center for Negotiation ( S7CG ).

Section S7C.20 The Office of Labor Management and Employee Relations—(Functions):

Delete:

B.

C., Line 5, starting with “The functions of the office include the following:” and items 1 through 10. Reletter:

C. to B.

Retitle:

A., Line 1 and B., Lines 1 and 2 from “The Director, Office of Labor-Management and Employee Relations” to “the Associate Commissioner, Office of Labor-Management and Employee Relations”.

B., Line 3, from “the Director” to the “Associate Commissioner”

B., Line 4, from “the Human Resources Manager” to “the Deputy Associate Commissioner”.

Establish:

C. The Center for Program Policy, Automation, and Training (S7CC ).

1. Formulates SSA program policy, guidance, and direction in the development, administration and evaluation of a comprehensive national program in the areas of labor-management relations, performance-management, disciplinary and adverse actions, and SSA grievances.

2. Designs and implements processes to monitor and evaluate implementation of government-wide and SSA priorities relative to SSA's national labor and employee relations programs.

3. Develops and evaluates SSA policies and programs involving labor-management relations, disciplinary and adverse actions, performance-based actions, grievances, and appeals.

4. Researches, compiles, and analyzes information on the granting and usage of union official time, grievances, adverse and disciplinary actions, and third party proceedings. Establishes and maintains automated data bases for information management to monitor and analyze emerging trends and compliance with SSA policy, laws, rules and regulations relating to labor and employee relations.

5. Conducts statutory review of all Memoranda of Understanding negotiated Agency-wide. Administers and maintains arbitration panels.

D. The Center for Operations (S7CE).

1. Provides technical guidance in developing, implementing and administering cooperative labor-management and employee relations programs throughout SSA.

2. Administers SSA employee relations programs involving disciplinary and adverse actions, performance-based actions, SSA grievances, and appeals.

3. Provides technical and advisory services to management for exercising management rights and discharging SSA's obligations under labor and employee relations statutes, laws, executive orders, regulations and negotiated agreements.

4. Works with managers, labor organizations, and union officials throughout SSA to develop and maintain plans, programs, and procedures necessary to institutionalize sound labor-management relations and more effective and efficient dealings between the parties.

5. Provides training, advice, and direction to supervisors, managers, and other management personnel in SSA components on the proper interpretation and application of negotiated agreements, 5 U.S.C. 71, and employee relation's laws and regulations.

6. Coordinates activities of field and component labor relations staffs to ensure uniform implementation of national labor and employee relations policies.

E. The Center for Negotiation (S7CG).

1. Negotiates, administers, interprets and implements SSA national labor agreements which include pre-negotiation activities, team preparation, advisory services and problem resolution.

2. Negotiates national midterm contractual issues with the recognized bargaining unit(s).

3. Provides technical and advisory services and expertise to management in establishing management negotiating positions and for representation in third-party proceedings.

4. Maintains files of case law which effect contracts and researches bargaining history relevant to establishing management's position at third-party proceedings and negotiations.

5. Represents or coordinates SSA representation in unfair labor practice complaints before the Federal Labor Relations Authority, bargaining matters before the Federal Mediation and Conciliation Service impasse proceedings before the Federal Services Impasses Panel, national-level grievances before arbitrators, management-initiated actions under appeal to the Merit Systems Protection Board and employee claims before unemployment compensation boards.

6. Provides technical advice and assistance to SSA management on non-bargaining unit SSA grievances.

7. Facilitates issues and generates guidance at the national, regional and local levels. Provides training and assists in resolving issues at all levels.

Dated: January 2, 2003.
Reginald F. Wells,
Deputy Commissioner for Human Resources.

[FR Doc. 03-764 Filed 1-14-03; 8:45 am]

BILLING CODE 4191-02-P